DEPARTMENT OF AGRICULTURE

Forest Service

Notice of Resource Advisory Committee Meeting

AGENCY: Modoc County Resource Advisory Committee, Alturas, CA 96101, USDA Forest Service.

ACTION: Notice of meeting.

SUMMARY: Pursuant to the authorities in the Federal Advisory Committees Act (Pub. L. 92-463) and under the Secure Rural Schools and Community Self-Determination Act of 2000 (Pub. L. 106-393) the Modoc National Forest's Modoc County Resource Advisory Committee will meet Monday, August 27, 2007 in Alturas, California 96101, for a business meeting. The meetings are open to the public.

SUPPLEMENTARY INFORMATION: The business meeting on August 27, 2007, will begin at 6 p.m., at the Modoc National Forest Office, Conference Room, 800 West 12th St., Alturas, California 96101. Agenda topics will include presentations and discussions of projects to be funded in 2008 that meet the intent of Public Law 106-393. Time will also be set aside for public comments at the beginning of the meeting.

FOR FURTHER INFORMATION: Contact Stan Sylva, Forest Supervisor and Designated Federal Officer, at (530) 233-8700; or Rural Development and Partnership Specialist Dina McElwain at (530) 233-8723.

Stanley G. Sylva,
Forest Supervisor.

[FR Doc. E7-16291 Filed 8-17-07; 8:45 am]

BILLING CODE 3410-11-P